DEPARTMENT OF HEALTH AND HUMAN SERVICES

Agency for Health Care Research and Quality

Agency Information Collection Activities: Proposed Collection; Comment Request

AGENCY: Agency for Health Care Research and Quality, HHS.

ACTION: Notice.

SUMMARY: This notice announces the intention of the Agency for Healthcare Research and Quality (AHRQ) to request the Office of Management and Budget (OMB) to allow the proposed information collection project: “Overcoming Barriers to Expanded Health Information Exchange (HIE) Participation in Indiana.” In accordance with the Paperwork Reduction Act of 1995, 44 U.S.C. 3506(c)(2)(A), AHRQ invites the public to comment on this proposed information collection.

This proposed information collection was previously published in the Federal Register on June 10th, 2008 and allowed 60 days for public comment. No comments were received. The purpose of this notice is to allow an additional 30 days for public comment.

DATES: Comments on this notice must be received by January 8, 2009.

ADDRESSES: Written comments should be submitted to: AHRQ's OMB Desk Officer by fax at (202) 395-6974 (Attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Overcoming Barriers to Expanded Health Information Exchange (HIE) Participation in Indiana.”

AHRQ, through its contractor, the Regenstrief Institute at Indiana University, proposes to assess the barriers to participation in health information exchange (HIE) in Indiana. The Regenstrief Institute will use its experience to date working with a variety of organizations to establish specific barriers to engagement in HIE cited by stakeholders, define the barriers and evaluate them.

The Regenstrief Institute will develop and implement a questionnaire and survey process to identify barriers that may exist throughout the State of Indiana to participation in the Indiana Network of Patient Care (INPC). The INPC is a local health information infrastructure that includes information from five major hospital systems (fifteen separate hospitals), the county and State public health departments, and Indiana Medicaid and RxHub. The INPC began operation seven years ago and is one of the first examples of a local health information infrastructure.

This research will elicit and aggregate feedback from large and small physician groups, as well as hospitals, throughout the State of Indiana. The goal is to identify the gaps in understanding, barriers and disconnects that may exist with providers' adoption of, and membership in, the INPC. The relationship between the stakeholders involved in the Indiana HIE is governed by a contract between the participants. The Regenstrief Institute, acting on behalf of the participants, created and operates the exchange, including serving as the custodian of the data.

The Regenstrief Institute will survey three key stakeholder groups in the State of Indiana: Small hospitals, small physician practices (less than 5 providers) and large physician practices (greater than 20 providers) to identify barriers for each of these groups to participate in a HIE in general, and specifically the INPC. It is difficult to predict the barriers that will be identified, but based on their experience to date, anecdotal evidence suggests that the cost of interfaces and the management attention needed to participate will be the two major barriers. The findings will be used to create approaches to engage specific entities to participate in their statewide HIE.

This project is being conducted pursuant to AHRQ's statutory mandates to conduct and support research, evaluations and initiatives to advance information systems for health care improvement (42 U.S.C. 299b-3) and to promote innovations in evidence-based health care practices and technologies by conducting and supporting research on the development, diffusion, and use of health care technology (42 U.S.C. 299b-5(a)(1)). This project is also being conducted pursuant to a modification to an earlier AHRQ request for proposals entitled “State and Regional Demonstrations in Health Information Technology” (issued under contract 290-04-0015).

Method of Collection

To ease the burden on the participating health care providers a Web-based questionnaire will be used. An initial screener interview will be conducted by telephone to describe the purpose of the survey and the survey process and to request the hospital's or physician practice's participation in the survey. After a hospital or practice agrees to participate, a communication packet will be sent by e-mail to the contact person identified during the telephone screening. The communication packet includes: (a) An HIE description and definition; (b) description of the INPC, its mission, overall direction, and other relevant background information; and (c) purpose for the contact, estimated time required to complete the Web-based questionnaire and a link to the questionnaire.

Responses to the survey are expected from about 20 hospitals and 40 physician practices of each size. Two to three individuals from each hospital will be asked to respond to the questionnaire. For physician practices, one person from each practice will be asked to respond: A practice manager, director of technology, or person occupying a similar role.

Following the completion of the Web-based questionnaire, respondents will be re-contacted by telephone for a follow-up interview. The purpose of the follow-up interview is to determine the steps necessary to overcome the barriers to HIE identified in the Web-based questionnaire. A structured interview guide has been developed with standard questions for the telephone follow-up.

The data will be aggregated, analyzed and a final report will be prepared that focuses on the following major topic areas:

a. General perceptions on electronic sharing of health information;

b. The extent to which electronic health information sharing exists in the contact's current environment;

c. Barriers to the adoption and implementation of electronic health information sharing and, specifically, INPC; and

d. Recommendations for addressing and resolving issues preventing the adoption of HIE (general as well as entity-specific recommendations).

This information will assist AHRQ's mission to advance “the creation of effective linkages between various sources of health information, including the development of information networks.” 42 U.S.C. 299b-3(a)(3). A seventy-five percent (75%) response rate is anticipated.

Estimated Annual Respondent Burden

Exhibit 1 shows the estimated annualized burden hours for the respondents' time to participate in this research. A screener interview will be completed once by each of the 20 hospitals and 80 physician practices and is expected to require about 5 minutes to complete. The Web-based questionnaire will be completed by an average of 3 persons from each of the 20 hospitals and by one person from each of the 80 physician practices and will take about 10 minutes to complete. The telephone follow-up interview will be conducted with each person that completed the Web-based questionnaire and is expected to last about 15 minutes. The total burden hours for the participating health care providers is estimated to be 66 hours.

Exhibit 2 shows the estimated annualized cost burden to the responding health care providers based on their time to participate in this research. The total cost burden is estimated to be $3,074.

Exhibit 1—Estimated Annualized Burden Hours
Form name | Number of respondents | Number of responses per respondent | Hours per response | Total burden hours
Screener | 100 | 1 | 5/60 | 8
Web-based Questionnaire | 100 | 1.4 | 10/60 | 23
Telephone Follow-up Interview | 100 | 1.4 | 15/60 | 35
Total | 300 | na | na | 66

Exhibit 2—Estimated Annualized Cost Burden
Form name | Number of respondents | Total burden hours | Average hourly wage rate * | Total cost burden
Screener | 100 | 8 | $46.58 | $373
Web-based Questionnaire | 100 | 23 | 46.58 | 1,071
Telephone Follow-up Interview | 100 | 35 | 46.58 | 1,630
Total | 300 | 66 | na | 3,074
* Based upon the average of the “Wage estimates, mean hourly” for the following occupation codes and titles: 11-101/Chief executives; 13-0000/Business and financial operations occupations; 15-1071/Network and computer systems administrators; 29-1062/Family and general practitioners; 11-9111/Medical and health services managers, from the “May 2007 State Occupational Employment and Wage Estimates, Indiana; Occupational Employment Statistics, U.S. Department of Labor, Bureau of Labor Statistics, http://www.bls.gov/oes/current/oes_in.htm.”

Estimated Annual Costs to the Federal Government

This project will last for one year and is estimated to cost the government $120,000. The scope of work includes the development of the survey instruments and data collection ($90,000), and data analysis ($10,000) to establish specific barriers to HIE participation cited by stakeholders and to define and evaluate them ($20,000).

Request for Comments

In accordance with the above cited Paperwork Reduction Act legislation, comments on AHRQ's information collection are requested with regard to any of the following: (a) Whether the proposed collection of information is necessary for the proper performance of functions of AHRQ health care research and health care information dissemination functions, including whether the information will have practical utility; (b) the accuracy of AHRQ's estimate of burden (including hours and costs) of the proposed collection(s) of information; (c) ways to enhance the quality, utility, and clarity on the information to be collected; and (d) ways to minimize the burden of the collection of information on respondents, including the use of automated collection techniques or other forms of information technology.

Comments submitted in response to this notice will be summarized and included in the Agency's subsequent request for OMB approval of the proposed information collection. All comments will become a matter of public record.

Dated: December 1, 2008.
Carolyn M. Clancy,
Director.

[FR Doc. E8-28901 Filed 12-8-08; 8:45 am]

BILLING CODE 4160-90-M